DEPARTMENT OF DEFENSE

Department of the Army

Army Education Advisory Committee Study Meeting

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (41 CFR 102-3. 140 through 160, the Department of the Army announces the following committee meeting:

Name of Committee: Army Education Advisory Committee (AEAC).

Date(s) of Meeting: November 15, 2012.

Time(s) of Meeting: 1530-1630.

Location: TRADOC HQ, 950 Jefferson Ave, Building 950, Conference Room 2047, 2rd Floor, Ft Eustis, VA.

Purpose: Adopt the findings and recommendations for the following study:

Essential Proficiencies and Professional Development Plan for Facilitators.

Proposed Agenda: Thursday 15 November 2012: 1530-1630—the study results for Essential Proficiencies and Professional Development Plan for Facilitators study are presented to the AEAC. The AEAC will deliberate and vote upon adoption of the findings and recommendations.

FOR FURTHER INFORMATION CONTACT: Non AEAC attendee's must contact Mr. Wayne Joyner at (757) 501-5810, albert.w.joyner.civ@mail.mil, before November 9, 2012 in order to attend.

SUPPLEMENTARY INFORMATION: None.

Brenda S. Bowen,
Army Federal Register Liaison Officer.

[FR Doc. 2012-27120 Filed 11-6-12; 8:45 am]

BILLING CODE 3710-08-P